DEPARTMENT OF DEFENSE

Department of the Navy

Notice of Extension of Public Comment Period for the Draft Environmental Impact Statement for the Navy Old Town Campus Revitalization

AGENCY: Department of the Navy, DoD.

ACTION: Notice of extension.

SUMMARY: A notice of availability was published in the Federal Register by the U.S. Environmental Protection Agency on May 14, 2021 for the Department of the Navy's (DoN) Draft Environmental Impact Statement for the Navy Old Town Campus (OTC) Revitalization. This notice announces a 30-day extension of the public comment period from July 13, 2021 to August 12, 2021.

DATES: The public comment period began on May 14, 2021 and will end on August 12, 2021. To be considered in the Final EIS, all comments must be postmarked or received online by 11:59 p.m. Pacific Standard Time on August 12, 2021.

ADDRESSES: Written comments may be submitted electronically on the project website at www.NAVWAR-revitalization.com or by mail to: Navy OTC Revitalization EIS Project Manager, Attention: Ron Bochenek, 750 Pacific Highway, Floor 12, San Diego, CA 92132-0058.

FOR FURTHER INFORMATION CONTACT: Naval Facilities Engineering Systems Command Southwest, Attention: Ron Bochenek, Navy OTC Revitalization EIS Project Manager, 750 Pacific Highway, Floor 12, San Diego, CA 92132-0058, 888-682-6289, info@NAVWAR-revitalization.com. You can also visit the project website at www.NAVWAR-revitalization.com for more information.

SUPPLEMENTARY INFORMATION: The Draft EIS and informational materials are available on the project website at www.NAVWAR-revitalization.com. The public may also review the Draft EIS and select materials at the following libraries:

1. Mission Hills-Hillcrest/Knox Library (215 West Washington Street, San Diego, CA 92103)

2. Point Loma/Hervey Library (3701 Voltaire Street, San Diego, CA 92107)

3. San Diego Central Library (330 Park Boulevard, San Diego, CA 92101)

Dated: July 8, 2021.
K.R. Callan,
Commander, Judge Advocate General's Corps, U.S. Navy, Federal Register Liaison Officer.

[FR Doc. 2021-14841 Filed 7-12-21; 8:45 am]

BILLING CODE 3810-FF-P